DEPARTMENT OF THE INTERIOR

Fish and Wildlife Service

[FWS-R7-R-2012-N084; FF07R06000 FXRS12650700000Z2]

Kenai National Wildlife Refuge, Soldotna, AK; Environmental Impact Statement for the Shadura Natural Gas Development Project

AGENCY: Fish and Wildlife Service, Interior.

ACTION: Notice of Intent.

SUMMARY: We, the U.S. Fish and Wildlife Service (Service), have received an application for a proposed right-of-way within the Kenai National Wildlife Refuge (Refuge) under the Alaska National Interest Lands Conservation Act (ANILCA). We received the application from Nordaq Energy, Inc. for the Shadura Natural Gas Development Project (Project), which would involve construction and operation of facilities associated with the exploration and production of natural gas from the subsurface estate within the Refuge. We intend to gather information necessary to prepare an environmental impact statement (EIS) under the National Environmental Policy Act (NEPA) and its implementation regulations for the application. We are publishing this notice in compliance with NEPA regulations (40 CFR 1501.7) to advise other agencies and the public of our intentions and to obtain suggestions and information on the scope of issues to be addressed in the EIS.

DATES: Meetings: We will locally announce any future meeting dates, times, and locations, at least 10 days prior to each meeting.

Comments: Please provide any written comments, information, or suggestions on the scope of issues to address in the EIS by June 18, 2012.

ADDRESSES: Additional information concerning the Project can be found at:

• http://kenai.fws.gov/current.htm

• http://alaska.fws.gov/nwr/planning/nepa.htm

Refuge information may be found at:

• http://www.fws.gov/refuges/profiles/index.cfm?id=74525.

Send your comments or requests for information by any of the following methods to:

• Email: fw7_kenai_planning@fws.gov;

• Fax: Attn: Peter Wikoff, (907) 786-3976;

• U.S. Mail: Peter Wikoff, Natural Resource Planner, U.S. Fish and Wildlife Service, 1011 East Tudor Rd., MS-231, Anchorage, AK 99503.

FOR FURTHER INFORMATION CONTACT: Peter Wikoff, Natural Resource Planner, U.S. Fish and Wildlife Service, at (907) 786-3357, or at the address above.

SUPPLEMENTARY INFORMATION: We have received an application for, and intend to prepare an environmental impact statement (EIS) for, a proposed right-of-way within the Refuge. The right-of-way would be in compliance with Section 1110(b) of ANILCA, regarding access to inholdings, for the construction and operation of facilities associated with the exploration and production of natural gas from the subsurface estate within the Refuge. The Service owns the surface estate, and Cook Inlet Region, Inc. (CIRI) owns the subsurface estate of coal, oil, and gas in the project area. The Project would be in the northwestern portion of the Kenai Peninsula, approximately 4 miles southeast of the end of the road in Captain Cook State Recreation Area in T8N, R10W. The application is being made by NordAq Energy, Inc., the holder of the lease from CIRI for the area.

This notice advises the public that we have started preliminary scoping and intend to gather information necessary to develop an EIS. A third-party contractor will prepare the EIS and evaluate the various alternatives associated with the Project pursuant to the National Environmental Policy Act (42 U.S.C. 4321 et seq.; NEPA) and its implementing regulations (40 CFR 1500 et seq.). The EIS will describe and evaluate a range of reasonable alternatives and the anticipated impacts of each. We are publishing this notice in compliance with the NEPA regulations (40 CFR 1501.7) to advise other agencies and the public of our intentions and to obtain suggestions and information on the scope of issues to be addressed in the EIS.

Public Input and Meetings

Special mailings, newspaper advertisements, and other media announcements will inform the public of opportunities to provide written input throughout the planning process. Public meetings were held on March 20, 2012, in, Kenai, Alaska, and on March 22, 2012, in Anchorage. In local media, we will announce additional public meetings to be held in the cities of Kenai and Anchorage. Information pertaining to the right-of-way application for the project is available for viewing and downloading at http://kenai.fws.gov/current.htm or http://alaska.fws.gov/nwr/planning/nepa.htm.

Refuge Information

The Refuge covers approximately two million acres on the Kenai Peninsula in south-central Alaska. It is readily accessible by road from the city of Anchorage, which is home to 41.5 percent of Alaska's population. The Refuge consists of the western slopes of the Kenai Mountains and forested lowlands bordering Cook Inlet. The Kenai Mountains, with their glaciers, rise to more than 6,500 feet. Treeless alpine and subalpine habitats are home to mountain goats, Dall sheep, caribou, wolverine, marmots, and ptarmigan. Boreal forests extend from sea level to 1,800 feet and are composed of spruce and birch forests, which on the Refuge are intermingled with hundreds of lakes. Boreal forests are home to moose, wolves, black and brown bears, lynx, snowshoe hares, and numerous species of Neotropical birds, such as olive-sided flycatchers, myrtle warblers, and ruby crowned kinglets. At sea level, the Refuge encompasses the last remaining pristine major saltwater estuary on the Kenai Peninsula, the Chickaloon River Flats. The Flats provide a major migratory staging area and nesting habitat for shorebirds and waterfowl throughout the spring, summer, and fall. The Flats are also used as a haul-out area by harbor seals. Thousands of salmon migrate up the Chickaloon River system each year to spawn.

While the Service owns the land surface within the Refuge, portions of the subsurface estate have been transferred to CIRI. CIRI was established by the Alaska Native Claims Settlement Act of 1971 (ANCSA; 43 U.S.C. 1601 et seq.). Under authority of ANCSA, Congress granted CIRI the subsurface oil, gas, and coal estate to nearly 200,000 acres within the Refuge. The State of Alaska also owns lands adjacent to the Refuge (Captain Cook State Recreation Area). ANILCA Section 1110 (b) requires that the Service provide for reasonable access to the subsurface estate. CIRI has previously leased other portions of its subsurface estate within the Refuge. Oil and gas are currently being produced from other production units within the Refuge.

The Alaska National Interests Land Conservation Act of 1980 (Section 303[4]) established the Refuge from the Kenai Moose Range and other lands and set forth the following major purposes for which the Refuge was to be managed:

(i) To conserve fish and wildlife populations and habitats in their natural diversity, including, but not limited to, moose, bear, mountain goats, Dall sheep, wolves, and other furbearers; salmonoids and other fish; waterfowl and other migratory and nonmigratory birds;

(ii) To fulfill the international treaty obligations of the United States with respect to fish and wildlife and their habitats;

(iii) To ensure, to the maximum extent practicable and in a manner consistent with the purposes set forth in paragraph (i), water quality and necessary water quantity within the Refuge;

(iv) To provide in a manner consistent with subparagraphs (i) and (ii), opportunities for scientific research, interpretation, environmental education, and land management training; and

(v) To provide, in a manner compatible with these purposes, opportunities for fish and wildlife-oriented recreation.

Public Availability of Comments

Before including your address, phone number, email address, or other personal identifying information in your comment, you should be aware that your entire comment—including your personal identifying information—may be made publicly available at any time. While you can ask us to withhold it from public view, we cannot guarantee we will be able to do so.

Dated: May 11, 2012.
Geoffrey L. Haskett,
Regional Director, U.S. Fish and Wildlife Service, Anchorage, Alaska.

[FR Doc. 2012-11942 Filed 5-16-12; 8:45 am]

BILLING CODE 4310-55-P